DEPARTMENT OF EDUCATION

RIN 1820 ZA31

National Institute on Disability and Rehabilitation Research (NIDRR)

AGENCY: Office of Special Education and Rehabilitative Services, Department of Education.

ACTION: Notice of final priority.

SUMMARY: The Assistant Secretary for Special Education and Rehabilitative Services establishes a final priority for one new award under the Assistive Technology Act (AT Act) Technical Assistance Program (TA) for NIDRR. The Assistant Secretary may use this priority for competitions in fiscal year (FY) 2003 and later years. We take this action to focus attention on an area of national need. We intend this priority to measure and improve the outcomes of the Assistive Technology (AT) State grant program that serves individuals with disabilities.

Waiver of Delayed Effective Date

The Administrative Procedure Act requires that a proposed rule be published at least 30 days before its effective date, except as otherwise provided for good cause (20 U.S.C. 553(d)(3)). During the 30-day public comment period on this notice, no comments were received. For this reason, and in order to make timely grant awards, the Secretary has determined that a delayed effective date is unnecessary and impracticable.

FOR FURTHER INFORMATION CONTACT: Donna Nangle, U.S. Department of Education, 400 Maryland Avenue, SW., room 3412, Switzer Building, Washington, DC 20202-2645. Telephone: (202) 205-5880 or via the Internet: donna.nangle@ed.gov.

If you use a telecommunications device for the deaf (TDD), you may call the TDD number at (202) 205-4475.

Individuals with disabilities may obtain this document in an alternative format (e.g., Braille, large print, audiotape, or computer diskette) on request to the contact person listed under FOR FURTHER INFORMATION CONTACT.

SUPPLEMENTARY INFORMATION: We published a notice of proposed priority in the Federal Register on August 14, 2003 (68 FR 48739). There are no differences between the notice of proposed priority and this notice of final priority.

Note: This notice does not solicit applications. In any year in which we choose to use this priority, we invite applications through a notice in the Federal Register. A notice inviting applications for FY 2003 awards was published in the Federal Register on August 14, 2003 (68 FR 48741). This notice does not preclude us from proposing or funding additional priorities, subject to meeting applicable rulemaking requirements.

When inviting applications we designate each priority as absolute, competitive preference, or invitational. The effect of each type of priority follows:

Absolute priority: Under an absolute priority, we consider only applications that meet the priority (34 CFR 75.105(c)(3)).

Competitive preference priority: Under a competitive preference priority, we give competitive preference to an application by either (1) awarding additional points, depending on how well or the extent to which the application meets the priority (34 CFR 75.105(c)(2)(i)); or (2) selecting an application that meets the competitive priority over an application of comparable merit that does not meet the competitive priority (34 CFR 75.105(c)(2)(ii)).

Invitational priority: Under an invitational priority, we are particularly interested in applications that meet the invitational priority. However, we do not give an application that meets the priority a competitive or absolute preference over other applications (34 CFR 75.105(c)(1)).

Background

The background statement for this priority was published in the notice of proposed priority on August 14, 2003 (68 FR 48739).

Priority

The Assistant Secretary proposes a Data Collection Technical Assistance Project. The purpose of the project is to maintain and support the existing Web-based data collection instrument for the AT Act State grantees and to develop, implement, test, support and maintain a Web-based data collection instrument for the AT Act Protection and Advocacy (P&A) grantees. The Data Collection Technical Assistance Project must:

(a) Maintain and support the existing Web-based data collection instrument for the AT Act State grantees and develop, implement, test, support and maintain a Web-based data collection and analysis system, including a data collection instrument for the AT Act P&A grantees to assess performance outcomes;

(b) Train entities funded under the AT Act in the use of the data collection systems including specific training on the data collection instruments;

(c) Generate analytical reports based on the data collected from the grantees and prepare an annual report on grantees' performance and outcomes, including interpretations of findings;

(d) Identify and evaluate successful strategies that can be linked to increased access to and provision of AT based on the data collected from the grantees, including analyses of use of AT by individuals with disabilities and national trends related to AT use by individuals with disabilities;

(e) Coordinate information dissemination activities and distribute information about access to and provision of AT for individuals with disabilities of all ages to the AT Act State grantees, AT Act P&A grantees, grantees providing TA to the AT Act State grantees and P&A grantees, and the National AT Internet Site; and

(f) Prepare and submit an annual report of findings about program outcomes, and separately prepare a report on assessment of the reliability of the data collection measures and validity of data collected from the AT Act grantees and P&A grantees, and the extent to which the data addresses the intended purposes of the data collection activities.

Executive Order 12866

This notice of final priority has been reviewed in accordance with Executive order 12866. Under the terms of the order, we have assessed the potential costs and benefits of this regulatory action.

The potential costs associated with the notice of final priority are those resulting from statutory requirements and those we have determined as necessary for administering this program effectively and efficiently.

In assessing the potential costs and benefits—both quantitative and qualitative—of this notice of final priority, we have determined that the benefits of the final priority justify the costs.

Summary of Potential Costs and Benefits

The potential cost associated with this final priority is minimal while the benefits are significant. Grantees may anticipate costs associated with completing the application process in terms of staff time, copying, and mailing or delivery. The use of e-Application technology reduces mailing and copying costs significantly.

The benefits of the Data Collection Project have been well established over the years in that similar projects have been completed. This final priority will generate new knowledge through a dissemination, utilization, training, and technical assistance project.

The benefit of this final priority and proposed applications and project requirements will be the establishment of a new Data Collection Project that generates, disseminates, and promotes the use of new information that will improve access to AT and expand opportunities for employment, education and community life.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is published in the Federal Register. Free Internet access to the official edition of the Federal Register and the Code of Federal Regulations is available on GPO Access at: http://www.gpoaccess.gov/nara/index.html.

(Catalog of Federal Domestic Assistance Number 84.224B, Assistive Technology Act Technical Assistance Program)

Program Authority: 29 U.S.C. 3014.

Dated: September 25, 2003.
Robert H. Pasternack,
Assistant Secretary for Special Education and Rehabilitative Services.

[FR Doc. 03-24703 Filed 9-29-03; 8:45 am]

BILLING CODE 4000-01-P